ENVIRONMENTAL PROTECTION AGENCY

40 CFR Part 52

[AZ092-002; FRL-6736-1]

Approval and Promulgation of Implementation Plans; Arizona—Maricopa County PM-10 Nonattainment Area; Serious Area Plan for Attainment of the Annual PM-10 Standard; Further Extension of Comment Period

AGENCY: Environmental Protection Agency (EPA).

ACTION: Proposed rule; further extension of comment period.

SUMMARY: EPA is extending the comment period for its proposed action to approve provisions of the Revised MAG 1999 Serious Area Particulate Plan for PM-10 for the Maricopa County (Phoenix) Nonattainment Area, February 2000, and the control measures on which it relies, that address the annual PM-10 national ambient air quality standard. As part of this proposal, we also proposed to grant Arizona's request to extend the Clean Air Act deadline for attaining the annual PM-10 standard in the Phoenix area from 2001 to 2006 and to approve two particulate matter rules adopted by the Maricopa County Environmental Services Department and Maricopa County's Residential Woodburning Restrictions Ordinance.

DATES: Comments must be received by July 28, 2000.

ADDRESSES: Mail comments to Frances Wicher, Air Planning Office (Air-2), U.S. Environmental Protection Agency, Region IX, 75 Hawthorne Street, San Francisco, CA 94105-3901.

FOR FURTHER INFORMATION CONTACT: Frances Wicher, Air Planning Office (Air-2), U.S. Environmental Protection Agency, Region IX, (415) 744-1248.

SUPPLEMENTARY INFORMATION: On April 13, 2000 (65 FR 19963), we proposed to approve the serious area air quality plan for attainment of the annual PM-10 standard in the Phoenix, Arizona, metropolitan area. The proposed actions are based on our initial determination that this plan complies with the Clean Air Act's requirements for attainment of the annual PM-10 standard in serious PM-10 nonattainment areas.

Specifically, we proposed to approve the following elements of the plan as they apply to the annual PM-10 standard:

• The base year emissions inventory of PM-10 sources,

• The demonstration that the plan provides for implementation of reasonably available control measures (RACM) and best available control measures (BACM), the demonstration that attainment of the PM-10 annual standard by the Clean Air Act deadline of December 31, 2001 is impracticable,

• The demonstration that attainment of the PM-10 annual standard will occur by the most expeditious alternative date practicable, in this case, December 31, 2006,

• The demonstration that the plan provides for reasonable further progress and quantitative milestones,

• The demonstration that the plan includes to our satisfaction the most stringent measures found in the implementation plan of another state or are achieved in practice in another state, and can feasibly be implemented in the area.

• The demonstration that major sources of PM-10 precursors such as nitrogen oxides and sulfur dioxide do not contribute significantly to violations of the annual PM-10 standard, and

• The transportation conformity budget.

We also proposed to grant Arizona's request to extend the attainment date for the annual PM-10 standard from December 31, 2001 to December 31, 2006.

Finally, we are proposing to approve Maricopa County's fugitive dust rules, Rules 310 and 301.01, and its residential woodburning restriction ordinance.

The proposal action provided a 60 day public comment period that ended on June 12, 2000. We have already extended the comment period to July 3, 2000. In response to a request from City of Tempe, Arizona, we are extending the comment period for an additional 14 days.

Dated: July 5, 2000.
Felicia Marcus,
Regional Administrator, Region IX.

[FR Doc. 00-17877 Filed 7-13-00; 8:45 am]

BILLING CODE 6560-50-P